DEPARTMENT OF DEFENSE

Department of the Navy

Notice of Availability of Government-Owned Inventions; Available for Licensing

AGENCY: Department of the Navy, DoD

ACTION: Notice.

SUMMARY: The Department of the Navy (DoN) announces the availability of the inventions listed below, assigned to the United States Government, as represented by the Secretary of the Navy, for domestic and foreign licensing by the DoN.

ADDRESSES: Requests for copies of the patents cited should be directed to Naval Surface Warfare Center, Crane Div, Code 00L, Bldg. 2, 300 Highway 361, Crane, IN 47522-5001.

FOR FURTHER INFORMATION CONTACT: Mr. Christopher Monsey, Naval Surface Warfare Center, Crane Div, Code 00L, Bldg. 2, 300 Highway 361, Crane, IN 47522-5001, Email Christopher.Monsey@navy.mil, 812-854-2777.

SUPPLEMENTARY INFORMATION: The following patents are available for licensing: Patent No. 10,189,117 (Navy Case No. 103030): ADHESION IMPROVEMENT VIA MATERIAL NANOSTRUCTURING OR TEXTURIZING// Patent No. 10,178,792 (Navy Case No. 200426): ONE-PERSON PORTABLE COMMAND AND CONTROL DATA CENTER// and Patent No. 10,173,784 (Navy Case No. 200328): MOBILE MULTI-MODE POWER GENERATION SYSTEM WITH MODE BASED ADJUSTABLE DRAG CONFIGURATION.

Authority: 35 U.S.C. 207, 37 CFR part 404.

Dated: February 5, 2019.
M.S. Werner,
Commander, Judge Advocate General's Corps, U.S. Navy, Federal Register Liaison Officer.

[FR Doc. 2019-01763 Filed 2-8-19; 8:45 am]

BILLING CODE 3810-FF-P